RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Employer's Quarterly Report of Contributions under the Railroad Unemployment Insurance Act; OMB 3220-0012.

Under Section 8 of the Railroad Unemployment Insurance Act (RUIA), as amended by the Railroad Unemployment Improvement Act of 1988 (Pub. L. 100-647), the RRB determines the amount of an employer's contribution, primarily on the basis of the RUIA benefits paid, both unemployment and sickness, to the employees of the railroad employer. These experienced-based contributions take into account the frequency, volume, and duration of the employees' unemployment and sickness benefits. Each employer's contribution rate includes a component for administrative expenses as well as a component to cover costs shared by all employers. The regulations prescribing the manner and conditions for remitting the contributions and for adjusting overpayments or underpayments of contributions are contained in 20 CFR 345.

RRB Form DC-1, Employer's Quarterly Report of Contributions under the Railroad Unemployment Insurance Act, is used by railroad employers to report and remit their quarterly contributions to the RRB. Employers can use either the manual version of the form or its internet equivalent. One response is requested quarterly of each respondent and completion is mandatory. The RRB proposes the following changes to the manual and electronic versions of Form DC-1:

• Manual version—Minor non-burden impacting editorial changes.

• Pay.gov version.

• Combined Paperwork Reduction Act link and form instructions link into one that reads “Click for Instructions and Paperwork Reduction Act Notice.”

• Other minor non-burden impacting editorial changes.

Estimate of Annual Respondent Burden
Form number | Annual responses | Time (minutes) | Burden (hours)
DC-1 (RRB.Gov) | 720 | 25 | 300
DC-1 (Pay.Gov) | 1,680 | 25 | 700
Total | 2,400 |  | 1,000

2. Title and purpose of information collection: Nonresident Questionnaire; OMB 3220-0145.

Under Public Laws 98-21 and 98-76, benefits under the Railroad Retirement Act payable to annuitants living outside the United States may be subject to taxation under United States income tax laws. Whether the social security equivalent and non-social security equivalent portions of Tier I, Tier II, vested dual benefit, or supplemental annuity payments are subject to tax withholding, and whether the same or different rates are applied to each payment, depends on a beneficiary's citizenship and legal residence status, and whether exemption under a tax treaty between the United States and the country in which the beneficiary is a legal resident has been claimed. To effect the required tax withholding, the Railroad Retirement Board (RRB) needs to know a nonresident's citizenship and legal residence status.

To secure the required information, the RRB utilizes Form RRB-1001, Nonresident Questionnaire, as a supplement to an application as part of the initial application process, and as an independent vehicle for obtaining the needed information when an annuitant's residence or tax treaty status changes. Completion is voluntary. One response is requested of each respondent. The RRB proposes the following changes to Form RRB-1001:

• Renumbered Items A through C and G to Items 1 through 4.

• Renumbered Items 1 through 5 to Items 5 through 9.

• Removed Item D, CNTRY CODE; Item E, CITZ CODE; and Item F, NRA TAX CODE as the information collected by them is no longer needed.

• Removed the General Instructions and the Paperwork Reduction Act and Privacy Act Notices from the back of the form as they are included in the Form TB-26 instructions, which is an enclosure.

Estimate of Annual Respondent Burden
Form number | Annual responses | Time (minutes) | Burden (hours)
RRB-1001 (initial filing) | 300 | 30 | 250
RRB-1001 (tax renewal) | 1,000 | 30 | 400
Total | 1,300 |  | 650

3. Title and purpose of information collection: Statement of Claimant or Other Person; OMB 3220-0183.

To support an application for an annuity under Section 2 of the Railroad Retirement Act (RRA) or for unemployment benefits under Section 2 of the Railroad Unemployment Insurance Act (RUIA), pertinent information and proofs must be furnished for the RRB to determine benefit entitlement. Circumstances may require an applicant or other person(s) having knowledge of facts relevant to the applicant's eligibility for an annuity or benefits to provide written statements supplementing or changing statements previously provided by the applicant. Under the railroad retirement program these statements may relate to a change in an annuity beginning date(s), date of marriage(s), birth(s), prior railroad or non-railroad employment, an applicant's request for reconsideration of an unfavorable RRB eligibility determination for an annuity or various other matters. The statements may also be used by the RRB to secure a variety of information needed to determine eligibility to unemployment and sickness benefits. Procedures related to providing information needed for RRA annuity or RUIA benefit eligibility determinations are prescribed in 20 CFR 217 and 320 respectively.

The RRB utilizes Form G-93, Statement of Claimant or Other Person, to obtain from applicants or other persons, the supplemental or corrective information needed to determine applicant eligibility for an RRA annuity or RUIA benefits. Completion is voluntary. One response is requested of each respondent. The RRB proposes no changes to Form G-93.

Estimate of Annual Respondent Burden
Form number | Annual responses | Time (minutes) 1/ | Burden (hours)
G-93 | 60 | 15 | 15

Additional Information or Comments: To request more information or to obtain a copy of the information collection justification, forms, and/or supporting material, contact Dana Hickman at (312) 751-4981 or Dana.Hickman@RRB.GOV. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2018-24236 Filed 11-5-18; 8:45 am]

BILLING CODE 7905-01-P